DEPARTMENT OF COMMERCE

Foreign-Trade Zones Board

[B-55-2023]

Foreign-Trade Zone (FTZ) 127, Notification of Proposed Production Activity; Trucast LLC; (Turbine Wheels); Newberry, South Carolina

Trucast LLC submitted a notification of proposed production activity to the FTZ Board (the Board) for its facility in Newberry, South Carolina within FTZ 127. The notification conforming to the requirements of the Board's regulations (15 CFR 400.22) was received on October 20, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished product is turbine wheels for commercial vehicles (duty rate 4.7%).

The proposed foreign-status material/component is nickel based alloy (duty-free). The request indicates that nickel based alloy is subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is December 6, 2023.

A copy of the notification will be available for public inspection in the “Online FTZ Information System” section of the Board's website.

For further information, contact Christopher Wedderburn at Chris.Wedderburn@trade.gov.

Dated: October 23, 2023.
Elizabeth Whiteman,
Executive Secretary.

[FR Doc. 2023-23735 Filed 10-26-23; 8:45 am]

BILLING CODE 3510-DS-P